SMALL BUSINESS ADMINISTRATION

National Women's Business Council; Notice of Public Meeting

AGENCY: Small Business Administration, National Women's Business Council.

ACTION: Notice of open public meeting.

DATES: The public meeting will be held on Tuesday, May 3, 2022, from 12:30 p.m. to 2:30 p.m. EDT.

ADDRESSES: Due to the coronavirus pandemic, this meeting will be held via Zoom, a web conferencing platform. The access link will be provided to attendees upon registration.

FOR FURTHER INFORMATION CONTACT: For more information, please visit the NWBC website at www.nwbc.gov, email info@nwbc.gov or Ana Argueta, ana.argueta@sba.gov, or call 202-205-3850.

The meeting is open to the public; however, advance notice of attendance is requested. To RSVP, please visit the NWBC website at www.nwbc.gov. The “2022 Public Meetings” section will feature a link to register on Eventbrite.

NWBC strongly encourages that public comments and questions be submitted in advance by April 27th. The Eventbrite registration page will include an opportunity to do so, but individuals may also email info@nwbc.gov with subject line—“[Name/Organization] Comment for 05/03/22 Public Meeting.” NWBC staff will read the first five submitted statements during the final 20 minutes of the program.

During the live event, attendees will be in listen-only mode and may submit additional questions via the Q&A Chat feature. For technical assistance, please visit the Zoom Support Page. All public comments will be included in the meeting record, which will be made available on www.nwbc.gov under the “2022 Public Meetings” section.

SUPPLEMENTARY INFORMATION: Pursuant to section 10(a)(2) of the Federal Advisory Committee Act, the National Women's Business Council (NWBC) announces its second public meeting of Fiscal Year 2022. The 1988 Women's Business Ownership Act established NWBC to serve as an independent source of advice and policy recommendations to the President, Congress, and the Administrator of the U.S. Small Business Administration (SBA) on issues of importance to women entrepreneurs.

This meeting will allow the Council to hear from subject matter experts on issues related to women's entrepreneurship. It will also establish a framework for the work to be done and possible avenues for inquiry by the Council's three subcommittees. The public will have the opportunity to provide feedback.

Dated: April 4, 2022.
Andrienne Johnson,
Committee Management Officer.

[FR Doc. 2022-07469 Filed 4-7-22; 8:45 am]

BILLING CODE 8026-03-P